DEPARTMENT OF TRANSPORTATION

Federal Aviation Administration

Seat Certification Conference

AGENCY: Federal Aviation Administration (FAA), DOT.

ACTION: Notice of public conference.

SUMMARY: This notice announces a public conference that the Federal Aviation Administration (FAA) is holding to present its views and hear comments from the public concerning issues relating to seat certification processes for transport category airplanes.

DATES: The conference will be held in Seattle, Washington, on September 17-18, 2003, beginning at 8:30 a.m.

Registration: Registration will begin at approximately 7:30 a.m. on Wednesday, September 17. If you plan to attend the conference, you are encouraged to pre-register by contacting the person identified later in this notice as the contact for further information.

ADDRESSES: The conference will be held at the Holiday Inn Select Hotel, One South Grady Way, Renton, WA 98055 telephone (425) 226-7700. We have reserved a block of guest rooms for the conference at the Holiday Inn Select Hotel at a group rate. This block of rooms will be held until September 10, 2003. You should contact the hotel directly for reservations and identify yourself as a participant in the FAA Public Technical Conference to ensure proper credit.

FOR FURTHER INFORMATION CONTACT: Jim Cashdollar, FAA, Airframe/Cabin Safety Branch, ANM-115, Transport Airplane Directorate, Aircraft Certification Service, 1601 Lind Avenue SW., Renton, WA 98055-4056; telephone (425) 227-2785; facsimile (425) 227-1149.

SUPPLEMENTARY INFORMATION: Section 757 of Public Law (Pub. L.) 106-81, The Wendell H. Ford Aviation Investment and Reform Act for the 21st Century, required the FAA to establish a government-industry team to simplify the seat certification process for transport category airplanes. The FAA established this team and has been working for over two years to improve and simplify the process of seat certification in accordance with the Act. One of the actions the team recommended is the hosting of an annual conference to provide information to the public regarding accomplishments to date and to promote standard application of requirements and certification processes. The first annual conference was held March 7, 2002.

Participation at the Conference

Although the primary purposes of the conference is to convey information regarding the simplification of seat certification processes, presentation by the public will be accommodated at the conference to the extent that time allows. If you are interested in presenting material or oral statements, you should submit your request, along with any presentation materials, to the FAA prior to August 15, 2003. Submit your request to the person listed under the heading FOR FURTHER INFORMATION CONTACT, along with an estimate of the time needed for your presentation. Requests received after August 15, 2003, will be considered and may be scheduled, time permitting, during the conference. Every effort will be made to accommodate as many presenters as possible in the time allotted.

Conference Agenda

A preliminary agenda will be available for review at the following website by July 1, 2002: http://www.faa.gov/certification/index-tad. htm. We will update the agenda posted on the conference Web site periodically as conference participants provide further details of their presentations.

Conference Procedures

The following procedures are established to facilitate the conference:

• Attendance at the conference on September 17 and 18 is open to the public, but will be limited to the space available.

• There will be no admission fee or other charge to attend or participate in the conference. The opportunity to comment on the presentations will be available to all persons, subject to availability of time.

• The conference is primarily designed to provide information to the public concerning issues related to seat certification processes. As such, the conference will contain detailed presentations by FAA and industry participants regarding the accomplishments to date, as well as explanations of recently published documents.

• The conference will be conducted in an informal manner. Participants may ask questions to clarify statements made during the presentations.

• Representatives of the FAA will preside over the conference. A panel of FAA and industry personnel involved in this issue will be present.

• Statements made by FAA members of the conference panel are intended to facilitate discussion of the issues or to clarify issues. Unless stated as such, these statements should not necessarily be construed as an FAA position.

• An individual, whether speaking in person or in a representative capacity on behalf of an organization, may be limited to a 10-minute statement. If possible, additional time may be allotted.

• The FAA will try to accommodate all questions, time permitting.

• The FAA will review and consider all material presented by participants at the conference. Participants are requested to provide an electronic copy of all presentation materials for use during the conference to the individual listed above under the heading FOR FURTHER INFORMATION CONTACT. Hard copies may be provided to the audience at the discretion of the participant.

Issue in Renton, WA, on June 25, 2004.
Vi Lipski,
Manager, Transport Airplane Directorate, Aircraft Certification Service.

[FR Doc. 03-17364 Filed 7-8-03; 8:45 am]

BILLING CODE 4910-13-M